OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are the individual authorities established under Schedule C between between January 1, 2003 and January 31, 2003. Future notices will be published on the fourth Tuesday of each month, or as soon as possible thereafter. A consolidated listing of all authorities as of June 30 is published each year.

Schedule C

Appalachian Regional Commission

Confidential Policy Advisor to the Federal Co-Chairman. Effective January 16, 2003.

Broadcasting Board of Governors

Special Assistant to the Chairman, Broadcasting Board of Governors. Effective January 21, 2003.

Special Assistant to the Chairman, Broadcasting Board of Governors. Effective January 23, 2003.

Commission on Civil Rights

Special Assistant to the Commissioner. Effective January 17, 2003.

Consumer Product Safety Commission

Special Assistant (Legal) to the Commissioner. Effective January 22, 2003.

Department of Agriculture

Director of Constituent Affairs to the Deputy Chief of Staff. Effective January 3, 2003.

Director of Web Design to the Deputy Chief of Staff. Effective January 3, 2003.

Special Assistant for the Office of Homeland Security to the Secretary. Effective January 7, 2003.

Special Assistant to the Under Secretary for Resources, Education and Economics. Effective January 9, 2003.

Confidential Assistant to the White House Liaison. Effective January 31, 2003.

Department of Commerce

Confidential Assistant to the Director of Scheduling. Effective January 10, 2003.

Confidential Assistant to the Deputy Assistant Secretary for Transportation and Machinery. Effective January 16, 2003.

Confidential Assistant to the Under Secretary for Export Administration. Effective January 21, 2003.

Director, Office of Public Affairs to the Under Secretary for International Trade. Effective January 21, 2003.

Department of Defense

Staff Assistant to the Deputy Secretary of Defense (Eurasia). Effective January 9, 2003.

Director of Assessments to the Deputy Under Secretary of Defense (International Technology). Effective January 13, 2003.

Department of Education

Special Assistant to the Deputy Under Secretary for Innovations and Improvement. Effective January 2, 2003.

Special Assistant to the Chief of Staff. Effective January 3, 2003.

Special Assistant to the Deputy Assistant Secretary for Innovation and Improvement. Effective January 3, 2003.

Confidential Assistant to the Deputy Under Secretary for Innovation and Improvement. Effective January 3, 2003.

Confidential Assistant to the Assistant Secretary for Elementary and Secondary Education. Effective January 15, 2003.

Confidential Assistant to the Assistant Secretary for Elementary and Secondary Education. Effective January 15, 2003.

Special Assistant to the Associate Deputy Under Secretary. Effective January 16, 2003.

Special Assistant to the Chief of Staff. Effective January 30, 2003.

Department of Energy

Special Assistant to the Secretary of Defense. Effective January 7, 2003.

Trip Coordinator to the Director, Scheduling and Advance. Effective January 13, 2003.

Associate Deputy Assistant Secretary to the Deputy Assistant Secretary for Environment and Science. Effective January 22, 2003.

Special Assistant to the Assistant Secretary for Congressional and Intergovernmental Affairs. Effective January 24, 2003.

Senior Policy Advisor to the Assistant Secretary for International Affairs. Effective January 24, 2003.

Special Assistant to the Director of Economic Impact and Diversity. Effective January 27, 2003.

Special Assistant to the Assistant Secretary for Congressional and Intergovernmental Affairs. Effective January 28, 2003.

Executive Assistant to the Assistant Secretary for Fossil Energy. Effective January 28, 2003.

Policy Advisor to the Assistant Secretary for Fossil Energy. Effective January 28, 2003.

Senior Policy Advisor to the Director, Office of Civilian Radioactive Waste Management. Effective January 28, 2003.

Chief of Staff to the Assistant Secretary for Policy and International Affairs. Effective January 29, 2003.

Department of Health and Human Services

Director of Communications to the Deputy Assistant Secretary for Public Affairs (Policy and Strategy). Effective January 3, 2003.

Secretary's Regional Representative, Philadelphia, PA to the Director of Intergovernmental Affairs. Effective January 15, 2003.

Deputy White House Liaison For Boards and Committees to the Chief of Staff. Effective January 27, 2003.

Department of Homeland Security Agency

Travel Aide to the Chief of Staff. Effective January 24, 2003.

White House Liaison to the Chief of Staff. Effective January 24, 2003.

Executive Assistant to the Deputy Secretary. Effective January 24, 2003.

Speechwriter to the Assistant Secretary for Public Affairs. Effective January 24, 2003.

Executive Assistant to the Chief of Staff. Effective January 24, 2003.

Assistant Press Secretary to the Assistant Secretary for Public Affairs. Effective January 24, 2003.

Executive Secretariat to the Under Secretary for Border and Transportation Security. Effective January 24, 2003.

Special Assistant to the Under Secretary for Border and Transportation Security. Effective January 24, 2003.

Executive Assistant to the Inspector General. Effective January 29, 2003.

Receptionist to the Secretary of Homeland Security. Effective January 29, 2003.

Executive Assistant to the Secretary of Homeland Security. Effective January 29, 2003.

Scheduler to the Secretary of Homeland Security. Effective January 31, 2003.

Department of Housing and Urban Development

Director of Executive Scheduling to the Assistant Secretary for Administration. Effective January 3, 2003.

Advance Coordinator to the Assistant Secretary for Administration. Effective January 7, 2003.

Staff Assistant to the Assistant Secretary for Congressional and Internal Relations. Effective January 9, 2003.

Staff Assistant to the Assistant Secretary for Congressional and Internal Relations. Effective January 9, 2003.

Special Assistant to the Assistant Secretary for Fair Housing and Equal Opportunity. Effective January 15, 2003.

Special Assistant to the Deputy Secretary. Effective January 21, 2003.

Special Assistant to the Assistant Secretary for Community Planning and Development. Effective January 28, 2003.

Staff Assistant to the Assistant Deputy Secretary for Field Policy and Management. Effective January 28, 2003.

Department of the Interior

Press Secretary to the Director, Office of Communications. Effective January 3, 2003.

Hispanic Media Outreach Coordinator to the Director, Office of Communications. Effective January 7, 2003.

Special Assistant to the Director of Scheduling and Advance. Effective January 15, 2003.

Department of Justice

Principal Deputy Director and Press Secretary to the Director, Office of Public Affairs. Effective January 3, 2003.

Counsel to the Assistant Attorney General, Civil Rights Division. Effective January 21, 2003.

Counsel to the Assistant Attorney General to the General Attorney. Effective January 28, 2003.

Department of Labor

Special Assistant to the Secretary of Labor. Effective January 13, 2003.

Staff Assistant to the Wage and Hour Administrator. Effective January 21, 2003.

Special Assistant to the Deputy Under Secretary for International Affairs, Bureau of International Labor Affairs. Effective January 23, 2003.

Chief of Staff to the Assistant Secretary for Policy. Effective January 23, 2003.

Special Assistant to the Secretary of Labor. Effective January 23, 2003.

Staff Assistant to the Assistant Secretary for Public Affairs. Effective January 27, 2003.

Chief Economist to the Assistant Secretary for Policy. Effective January 28, 2003.

Special Assistant to the Assistant Secretary for Mine Safety and Health. Effective January 29, 2003.

Department of State

Senior Advisor to the Coordinator for International Information Programs. Effective January 2, 2003.

Legislative Management Officer to the Assistant Secretary for Legislative and Intergovernmental Affairs. Effective January 6, 2003.

Public Affairs Specialist to the Assistant Secretary for International Organizational Affairs. Effective January 8, 2003.

Correspondence Specialist to the Assistant Secretary for Legislative and Intergovernmental Affairs. Effective January 10, 2003.

Special Advisor to the Assistant Secretary for International Organizational Affairs. Effective January 10, 2003.

Legislative Management Officer to the Assistant Secretary for Legislative and Intergovernmental Affairs. Effective January 17, 2003.

Protocol Officer (Visits) to the Deputy Chief of Protocol. Effective January 24, 2003.

Department of the Treasury

Special Assistant to the Director of Strategic Planning, Scheduling and Advance. Effective January 2, 2003.

Senior Advisor to the Assistant Secretary/Deputy Secretary for International Affairs. Effective January 27, 2003.

Environmental Protection Agency

Associate Assistant Administrator to the Associate Administrator for Research and Development. Effective January 24, 2003. Federal Communications Commission

Deputy Director, Office of Media Relations to the Chief of Staff. Effective January 29, 2003.

Federal Emergency Management Agency

Policy Advisor to the Deputy Director, Federal Emergency Management Agency. Effective January 10, 2003.

Federal Housing Finance Board

Staff Assistant to the Chairman. Effective January 15, 2003. Federal Maritime Commission

Counsel to the Commissioner. Effective January 28, 2003.

Office of National Drug Control Policy

Special Assistant to the Director. Effective January 7, 2003. Office of Personnel Management

Special Assistant to the Director, Office of Communications. Effective January 6, 2003.

Special Assistant to the Director. Effective anuary 7, 2003.

White House Liaison to the Chief of Staff. Effective January 27, 2003.

Overseas Private Investment Corporation

Program Specialist to the President for Overseas Private Investment Corporation. Effective January 15, 2003.

President's Commission on White House Fellowships

Special Assistant (Office Automation) to the Director, Presidential Commission on White House Fellowships. Effective January 9, 2003.

Education and Special Projects Director to the Director, President's Commission on White House Fellowships. Effective January 23, 2003.

Small Business Administration

Special Assistant to the Chief of Staff. Effective January 21, 2003.

Special Assistant to the Deputy Administrator. Effective January 23, 2003.

Authority: 5 U.S.C. 3301 and 3302; E.O. 10577, 3 CFR 1954—1958 Comp., P.218

Kay Coles James,
Office of Personnel Management, Director.

[FR Doc. 03-5538 Filed 3-7-03; 8:45 am]

BILLING CODE 6325-38-P